DEPARTMENT OF AGRICULTURE

National Institute of Food and Agriculture

Solicitation of Input From Stakeholders Regarding the Smith-Lever 3(d) Extension Integrated Pest Management Competitive Grants Program

AGENCY: National Institute of Food and Agriculture, USDA.

ACTION: Notice of public meeting and request for stakeholder input.

SUMMARY: Section 7403 of the Food, Conservation, and Energy Act of 2008 (Pub. L. 110-246) (FCEA) amended section 3(d) of the Smith-Lever Act (7 U.S.C. 343(d)) to provide the opportunity for 1862 and 1890 Land-Grant Institutions, including Tuskegee University and West Virginia State University to compete for section 3(d) funds. Section 7417 of FCEA also provided the University of the District of Columbia the opportunity to compete for section 3(d) funds. The Extension Integrated Pest Management Coordination and Support Program (EIPM-CS) is among the Extension programs funded under this authority. By this notice, NIFA is designated to act on behalf of the Secretary of Agriculture in soliciting public comment from interested persons regarding the future design and implementation of this program.

DATES: The public meeting will be held on Thursday, March 29, 2012, from 2 p.m. to 4 p.m. Central time. All comments not otherwise presented or submitted for the record at the meeting must be submitted by close of business Wednesday, May 2, 2012, to assure consideration in the next RFA.

ADDRESSES: The meeting will be held in the Nashville Meeting Room, Memphis Marriott Downtown Hotel, 250 North Main Street, Memphis, Tennessee 38103, phone—(888) 557-8740 (toll-free in USA); (901) 527-7300 (outside USA). You may submit comments, identified by NIFA-2012-0003, by any of the following methods:

Federal eRulemaking Portal: http://www.regulations.gov. Follow the instructions for submitting comments.

Email: newEIPM@nifa.usda.gov. Include NIFA-2012-0003 in the subject line of the message.

Fax: (202) 401-1794.

Mail: Paper, disk or CD-ROM submissions should be submitted to newEIPM; Division of Plant Protection, Institute of Food Production and Sustainability, National Institute of Food and Agriculture, U.S. Department of Agriculture; STOP 2220, 1400 Independence Avenue SW., Washington, DC 20250-2220.

Hand Delivery/Courier: newEIPM; Division of Plant Protection, Institute of Food Production and Sustainability, National Institute of Food and Agriculture, U.S. Department of Agriculture; Room 3105, Waterfront Centre, 800 9th Street SW., Washington, DC 20024.

Instructions: All submissions received must include the agency name and the identifier NIFA-2012-0003. All comments received will be posted to http://www.regulations.gov, including any personal information provided.

FOR FURTHER INFORMATION CONTACT: Ms. Elizabeth Ley, (202) 401-6195 (phone), (202) 401-1794 (fax), or newEIPM@nifa.usda.gov.

SUPPLEMENTARY INFORMATION:

Additional Meeting and Comment Procedures

Because of the diversity of subjects, and to aid participants in scheduling their attendance, the following schedule is anticipated for the March 29, 2012, meeting:

2-2:15 p.m. Introduction to the Extension Integrated Pest Management Coordination and Support Competitive Grant Program (EIPM).

2:15-4 p.m. Stakeholder input on general administration of EIPM, including: solicitation of proposals, types of projects and awards, length of awards, evaluation criteria, and protocols to ensure the widest program participation, allocation of funds including protocols to solicit and consider stakeholder input, determination of priority areas, and determination of activities to be supported.

4 p.m. Adjourn

Persons wishing to present oral comments at the March 29, 2012, meeting are requested to pre-register by contacting Elizabeth Ley, (202) 401-6195 (phone), by fax at (202) 401-1794, or by email to newEIPM@nifa.usda.gov.

Participants may reserve one 5-minute comment period. More time may be available, depending on the number of people wishing to make a presentation and the time needed for questions following presentations. Reservations for oral comments will be confirmed on a first-come, first-served basis. All other attendees may register at the meeting.

Written comments may also be submitted for the record at the meeting. All comments not presented or submitted for the record at the meeting must be received by close of business Wednesday, May 2, 2012, to be considered in the next RFA. All comments and the official transcript of the meeting, when they become available, may be reviewed on the NIFA Web page for six months. Participants who require a sign language interpreter or other special accommodations should contact Ms. Ley as directed above.

Background and Purpose

Stakeholder listening sessions have been held by NIFA and its predecessor agency, CSREES, on October 6, 2008 and March 26, 2009 about the restructuring of the Smith-Lever 3(d) IPM program due to changes found in section 7403 of the FCEA. Changes to Smith-Lever 3(d) funding include: (1) The requirement for a competitive program delivery model as opposed to a long-standing formula-based delivery model; and (2) the inclusion of 1890 Institutions and the University of the District of Columbia as eligible entities to receive 3(d) funds. The primary intent of the listening session was to gather stakeholder input on program focus and design. Prior to the listening session, National Program Leaders presented stakeholders with the following questions:

1. What should be the primary goals and objectives of the program?

2. How can NIFA funding be optimized?

3. Should there be a limit on the number of proposals that can be submitted by each eligible institution?

4. What criteria should be used in the proposal review and selection process?

5. Should regional, multi-institutional or multi-state proposals be encouraged?

6. Should proposals addressing gaps in current program coverage (organic, small farms, etc.) be given greater emphasis in the evaluative process?

7. What limits should be set on funding and project duration?

The 2008 written comment period ran from October 6 through November 15, with over 400 written comments received. A written summary of the comments is available at http://www.nifa.usda.gov/business/reporting/stakeholder.eipm_stakeholder.html. Contained in the comments are many areas with broad agreement among stakeholders.

The Agency responded by promptly issuing the EIPM-CS RFA and proceeding with the competition on a compressed schedule and incorporating as many of the suggestions as allowable by law.

The additional input from the 2009 listening session helped to better define the program. Again, written comments were accepted for 5 weeks, from March 26 through April 29 and more than 300 comments were received. A written summary of the comments is available at http://www.nifa.usda.gov/business/reporting/stakeholder.eipm_stakeholder.html. Those comments were weighed and incorporated to the greatest degree possible.

Additional input is sought now regarding the structure of the program going forward. The March 2012, Listening Session is scheduled to assist NIFA leadership in more fully addressing stakeholder needs and assuring that the program has influence on the adoption of IPM principles and end users are best served.

Implementation Plans

NIFA plans to consider stakeholder input received from this public meeting as well as other written comments in developing the FY 2013 program guidelines. NIFA anticipates releasing the FY 2013 Request for Applications (RFA) by winter 2012-13.

Done at Washington, DC, this 25th day of January 2012.
Chavonda Jacobs-Young,
Acting Director, National Institute of Food and Agriculture.

[FR Doc. 2012-2106 Filed 1-31-12; 8:45 am]

BILLING CODE 3410-22-P